ENVIRONMENTAL PROTECTION AGENCY

[EPA-HQ-ORD-2013-0448; FRL—9825-4]

Proposed Information Collection Request; Comment Request; Willingness to Pay Survey for Salmon Recovery in the Willamette Watershed (New)

AGENCY: Environmental Protection Agency (EPA).

ACTION: Notice.

SUMMARY: The Environmental Protection Agency is planning to submit an information collection request (ICR), “Willingness to Pay Survey for Salmon Recovery in the Willamette Watershed” (EPA ICR No. 2489.01, OMB Control No. 2080-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before August 30, 2013.

ADDRESSES: Submit your comments, referencing Docket ID No. EPA-HQ-ORD-2013-0448 online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Michael Papenfus, Environmental Protection Agency, Western Ecology Division, 200 SW 35th St., Corvallis, OR, 97333; telephone number: 541-754-4703; fax number: 541-754-4799; email address: papenfus.michael@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract:

The USEPA Office of Research and Development is investigating public values for Chinook salmon and Winter steelhead recovery in the Willamette basin of Oregon. These values will be estimated via a willingness to pay mail survey instrument. There are two effluent-dominated perennial reaches considered in the survey. The primary goal of conducting economic valuation studies should be to improve the way in which communities frame choices regarding the allocation of scarce resources and to clarify the trade-offs between alternative outcomes. This problem is particularly relevant to salmon conservation efforts in the Pacific Northwest. Despite the deep cultural importance of salmon to the citizens of the Pacific Northwest, there is a remarkable lack of valid empirical economic studies quantifying this importance to the general public. This survey will estimate the benefits of salmon and steelhead recovery in the Willamette basin as outlined in the Upper Willamette River Conservation and Recovery Plan.

The public benefits associated with several recovery options will be estimated in this survey. The first option is labeled 'minimum recovery' and represents a permanent increase in the number of wild origin Chinook salmon and steelhead that return annually to the Willamette basin watershed. The increase in fish abundance is also associated with a reduction in the risk of extinction that is great enough to 'de-list' these species from the endangered species list. The second recovery status evaluated in the survey is labeled 'broadsense recovery'. This recovery option also represents a reduction in extinction risk great enough to remove both species form the endangered species list but also represents an even larger increase in wild origin fish than under the `minimal recovery' option. In addition to the different recovery options, public preferences for the time to recovery will be evaluated.

For the survey, a choice experiment framework is used with statistically designed tradeoff questions. Recovery options for wild origin Chinook salmon and steelhead and time to recovery are posed as increases in a yearly household tax for the next 25 years. Each choice question allows a zero cost “opt out” option. A few additional questions to further understand respondent choice motivations, their river-related recreation behavior, and their attitudes towards wild origin versus hatchery origin fish are also included. Several pages of background introduce the issue to respondents. A small number of sociodemographic questions are included to gauge how well the sample respondents represent the target population. A sample from across the state of Oregon will receive the survey. The survey will target three subpopulations of Oregon to be studied—the urban population of the Willamette valley, the rural population within the Willamette valley, and the population residing outside the Willamette valley. The primary reason for the survey is public value research. All survey responses will be kept confidential.

Form Numbers: None.

Respondents/affected entities: The target respondents for this survey are representatives 18 yrs or older of households across the state of Oregon. A sample of household representatives 18 yrs or older will be contacted by mail following the multiple contact protocol in Dillman (2009). A response rate of 30% will be targeted. To increase response rates from the sample, several contacts will be used, including a prenotice to all recipients, a reminder postcard, and follow-up mailing as needed.

Respondent's obligation to respond: Voluntary.

Estimated number of respondents: The number of target responses from each subpopulation within Oregon is 250 households each, or 750 households total.

Frequency of response: One-time response.

Total estimated burden: For a typical respondent, a conservative estimate of their time to review and respond to survey questions is 30 minutes. Assuming the target of 750 people total respond to the survey, the burden is 375 hours.

Total estimated cost: The Bureau of Labor Statistics reports average wage rates for Oregon for all occupations (Bureau of Labor Statistics, 2011). The average hourly wage for all occupations in Oregon was $21.75, or an average cost per participant of $10.88. Assuming 750 participants fill out the survey, the total estimated respondent labor cost is $8,160. This would be a one-time expenditure of their time.

Changes in Estimates: This is the first notice; there is no change in estimates at this time.

Dated: June 10, 2013.
Thomas D. Fontaine III,
Western Ecology Division Director.

[FR Doc. 2013-15754 Filed 6-28-13; 8:45 am]

BILLING CODE 6560-50-P